DEPARTMENT OF COMMERCE

Foreign-Trade Zones Board

[B-22-2024]

Foreign-Trade Zone (FTZ) 12, Notification of Proposed Production Activity; Uni Ag Group, LLC; (Bulk Premixes); McAllen, Texas

The McAllen Foreign Trade Zone Inc., grantee of FTZ 12, submitted a notification of proposed production activity to the FTZ Board (the Board) for export-only production on behalf of Uni Ag Group, LLC (Uni Ag), located in McAllen, Texas within FTZ 12. The notification conforming to the requirements of the Board's regulations (15 CFR 400.22) was received on May 15, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: chocolate mixture (85% to 92% sugar and 15% to 8% cocoa powder), chocolate premix (sugar, cocoa, citric acid), gelatin premix (5% to15% gelatin and 95% to 85% sugar), peanut premix(10% peanuts, 90% sugar), and syrup premix (97% raw sugar, 3% activated carbon).(duty rate ranges from 33.87 cents per kilogram plus 6% to 5.10%).

The proposed foreign-status materials/components include: beet sugar; cane sugar; refined white sugar; raw sugar (very high polarity sugar); roasted peanuts; raw peanuts; gelatin; cocoa powder; blanched peanuts; and activated carbon (duty rate ranges from 0.52 cents per kilogram to 131.80%). The request indicates that certain materials/components are subject to duties under section 301 of the Trade Act of 1974 (section 301), depending on the country of origin. The applicable section 301 decisions require subject merchandise to be admitted to FTZs in privileged foreign status (19 CFR 146.41). The request indicates that activated carbon is subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is July 1, 2024.

A copy of the notification will be available for public inspection in the “Online FTZ Information System” section of the Board's website.

For further information, contact Kolade Osho at Kolade.Osho@trade.gov.

Dated: May 15, 2024.
Elizabeth Whiteman,
Executive Secretary.

[FR Doc. 2024-11128 Filed 5-20-24; 8:45 am]

BILLING CODE 3510-DS-P